DEPARTMENT OF VETERANS

Veterans' Advisory Committee on Education, Notice of Meeting

The Department of Veterans Affairs (VA) gives notice under the Federal Advisory Committee Act, that the Veterans' Advisory Committee on Education (VACOE) will meet via conference call June 23-26, 2020 from 1:00 p.m. to 4:00 p.m., EST. The meeting is open to the public.

The purpose of the Committee is to advise the Secretary of Veterans Affairs on the administration of education and training programs for Veterans, Servicepersons, Reservists, and Dependents of Veterans including programs under Chapters 30, 32, 33, 35, and 36 of title 38, and Chapter 1606 of title 10, United States Code.

The purpose of the meeting is to introduce the new Committee members, Veterans Benefits Administration Leadership, and Education Service Leadership Staff; provide an overview of Education Service Benefit Programs and Services; and discuss recommendation proposals previously presented to the Secretary regarding GI Bill Education Programs.

Interested persons may attend. The dial-in number to attend the conference call is: 1-800-767-1750. At the prompt, enter access code 00684 then press#. Although no time will be allotted for receiving oral presentations from the public, individuals wishing to share information with the Committee may submit written statements for the Committee's review to Ms. Debra Morgan, Designated Federal Official, Department of Veterans Affairs, by email at EDUSTAENG.VBAVACO@va.gov. Comments will be accepted until close of business on Monday, June 22, 2020. In the communication, the writers must identify themselves and state the organization or association they represent for inclusion in the official record. Any member of the public wishing to participate or seeking additional information should contact Janet Elder at EDUSTAENG.VBAVACO@va.gov or Janet.Elder@va.gov not later than June 22, 2020.

Dated: June 3, 2020.
Jelessa M. Burney,
Federal Advisory Committee Management Officer.

[FR Doc. 2020-12409 Filed 6-8-20; 8:45 am]

BILLING CODE P